POSTAL SERVICE

39 CFR Part 20

Removal of Priority Mail International Regional Rate Boxes—Non-Published Rates and Priority Mail International Regional Rate Boxes

AGENCY: Postal Service™.

ACTION: Final rule.

SUMMARY: On November 21, 2022, the Postal Service published notice of international product changes concerning requests by the Postal Service for classification changes filed with the Postal Regulatory Commission (PRC) about Priority Mail International Regional Rate Boxes. On December 20, 2022, the PRC favorably reviewed the classification changes which have an effective date of January 22, 2023. Therefore, the Postal Service is revising Mailing Standards of the United States Postal Service, International Mail Manual (IMM®), to reflect the discontinuation of Priority Mail International Regional Rate Boxes—Non-Published Rates and Priority Mail International Regional Rate Boxes, which were available only to commercial customers with an agreement with the Postal Service specifically for Priority Mail International Regional Rate Boxes.

DATES: Effective: February 14, 2023.

FOR FURTHER INFORMATION CONTACT: Dale Kennedy at 202-268-6592 or Kathy Frigo at 202-268-4178.

SUPPLEMENTARY INFORMATION:

I. Proposed Rule and Response

On November 10, 2022, in PRC Docket No. MC2023-45, the Postal Service filed a request to remove Priority Mail International Regional Rate Boxes—Non-Published Rates and Priority Mail International Regional Rate Boxes Contracts from the Competitive Price List. In addition, on November 10, 2022, in PRC Docket No. MC2023-46, the Postal Service filed a request for changes to the Global Reseller Expedited Package Contracts product to remove mention of Priority Mail International Regional Rate Box. On November 21, 2022, the Postal Service published notice of the filings in PRC Docket Nos. MC2023-45 and MC2023-46 in the Federal Register notices entitled “International Product Change—Removal of Priority Mail International Regional Rates Boxes—Non-Published Rates and Priority Mail International Regional Rates Boxes Contracts” and “International Product Change—Global Reseller Expedited Package Contracts” (87 FR 70869).

II. Review by the Postal Regulatory Commission

As stated in the PRC's Order No. 6378 issued in Docket Nos. MC2023-45 and MC2023-46 on December 20, 2022, the PRC favorably reviewed the requests, which have an effective date of January 22, 2023. The order is available on the PRC's website at http://www.prc.gov.

The Postal Service adopts the described changes to the IMM, which is incorporated by reference in the Code of Federal Regulations. We will publish an appropriate amendment to 39 CFR part 20 to reflect these changes.

List of Subjects in 39 CFR Part 20

Foreign relations, International postal services.

Accordingly, the Postal Service amends Mailing Standards of the United States Postal Service, International Mail Manual (IMM), incorporated by reference in the Code of Federal Regulations as follows (see 39 CFR 20.1):

PART 20—INTERNATIONAL POSTAL SERVICE

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of the IMM as follows:

* * * * *

Mailing Standards of the United States Postal Service, International Mail Manual (IMM)

* * * * *

1 International Mail Services

* * * * *

110 General Information

* * * * *

116 Trademarks of the USPS

116.1 USPS Trademarks in the IMM

* * * * *

Exhibit 116.1

USPS Trademarks in the IMM

[Remove from the list the entry for “Priority Mail International Regional Rate.”]

* * * * *

2 Conditions for Mailing

* * * * *

230 Priority Mail International

* * * * *

232 Eligibility

* * * * *

[Revise 232.5 by removing the title of 232.51 and the title and text of 232.52]

* * * * *

Sarah Sullivan,
Attorney, Ethics & Legal Compliance.

[FR Doc. 2023-03041 Filed 2-13-23; 8:45 am]

BILLING CODE 7710-12-P